DEPARTMENT OF THE INTERIOR

National Park Service

[NPS-WASO-NAGPRA-NPS0033675; PPWOCRADN0-PCU00RP14.R50000]

Notice of Intent To Repatriate Cultural Items: Nebraska State Historical Society DBA History Nebraska, Lincoln, NE

AGENCY: National Park Service, Interior.

ACTION: Notice.

SUMMARY: History Nebraska, in consultation with the appropriate Indian Tribes or Native Hawaiian organizations, has determined that the cultural items listed in this notice meet the definition of unassociated funerary objects. Lineal descendants or representatives of any Indian Tribe or Native Hawaiian organization not identified in this notice that wish to claim these cultural items should submit a written request to History Nebraska. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to History Nebraska at the address in this notice by May 5, 2022.

FOR FURTHER INFORMATION CONTACT: Dave Williams, History Nebraska, Nebraska State Archeology Office, 5050 North 32nd Street, Lincoln, NE 68504, telephone (402) 219-2759, email dave.williams@nebraska.gov.

SUPPLEMENTARY INFORMATION: Notice is here given in accordance with the Native American Graves Protection and Repatriation Act (NAGPRA), 25 U.S.C. 3005, of the intent to repatriate cultural items under the control of History Nebraska, Lincoln, NE, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In October of 1991, two cultural items were removed from archeological site 25ST21 in Stanton County, NE. The objects were collected from the surface of the site during an archeological research survey conducted by the University of Nebraska-Lincoln, Department of Anthropology. Site 25ST21 is a known cemetery associated with a village occupied by members of the Omaha Tribe of Nebraska in the 1820s and 1830s. At an unknown date, these objects were transferred to History Nebraska. The two unassociated funerary objects include one lot of glass beads (13 beads) and one lot of wampum beads (three beads).

The age of the bead types is consistent for the period when the Omaha Tribe of Nebraska was interring their dead at this cemetery site. Consequently, these objects are reasonably believed to be funerary objects that were disinterred from subsurface graves through animal activity or cultivation.

Determinations Made by History Nebraska

Officials of History Nebraska have determined that:

• Pursuant to 25 U.S.C. 3001(3)(B), the two cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Omaha Tribe of Nebraska.

Additional Requestors and Disposition

Lineal descendants or representatives of any Indian Tribe or Native Hawaiian organization not identified in this notice that wish to claim these cultural items should submit a written request with information in support of the claim to Dave Williams, History Nebraska, Nebraska State Archeology Office, 5050 North 32nd Street, Lincoln, NE 68504, telephone (402) 219-2759, email dave.williams@nebraska.gov, by May 5, 2022. After that date, if no additional claimants have come forward, transfer of control of the unassociated funerary objects to the Omaha Tribe of Nebraska may proceed.

History Nebraska is responsible for notifying the Omaha Tribe of Nebraska that this notice has been published.

Dated: March 30, 2022.
Melanie O'Brien,
Manager, National NAGPRA Program.

[FR Doc. 2022-07172 Filed 4-4-22; 8:45 am]

BILLING CODE 4312-52-P